DEPARTMENT OF DEFENSE

Department of the Army; Corps of Engineers

Intent To Prepare a Draft Supplemental Environmental Impact Statement for the Louisiana Coastal Area (LCA)—Louisiana, Modification of Davis Pond Diversion Project

AGENCY: Department of the Army, U.S. Army Corps of Engineers, DoD.

ACTION: Notice of intent.

SUMMARY: The U.S. Army Corps of Engineers (USACE) intends to prepare a supplemental environmental impact statement (EIS) for the Louisiana Coastal Area (LCA)—Louisiana, Modification of Davis Pond Diversion Project. This modification project will be designed to increase wetland restoration outputs. This supplemental EIS will be tiered off of the programmatic final EIS for the Louisiana Coastal Area (LCA)—Louisiana, Ecosystem Restoration Study, November 2004, and the final EIS for the LCA—Louisiana, Freshwater Diversion to Barataria and Breton Sound Basins Study, September 1984. The record of decision (ROD) for the programmatic final EIS was signed on November 18, 2005 and the ROD for the freshwater diversion final EIS was signed on July 16, 1987.

DATES: A scoping meeting is planned for October 6, 2009, see SUPPLEMENTARY INFORMATION section for scoping meeting location.

FOR FURTHER INFORMATION CONTACT: Questions concerning the draft supplemental EIS should be addressed to Michael T. Brown, CEMVN-PM-RP, P.O. Box 60267, New Orleans, LA 70160-0267; telephone: (504) 862-1570; fax: (504) 862-2088; or by email: michael.t.brown@usace.army.mil.

SUPPLEMENTARY INFORMATION: 1. Authority. This supplemental EIS will be tiered off of the programmatic final EIS for the LCA—Louisiana, Ecosystem Restoration Study, November 2004 and the final EIS for the LCA—Louisiana, Freshwater Diversion to Barataria and Breton Sound Basins Study, September 1984. The Water Resources Development Act of 2007 (WRDA 2007) authorized fifteen projects under the LCA program. The authority includes requirements for comprehensive planning, program governance, implementation, and other program components. The LCA restoration program will facilitate the implementation of critical restoration features and essential science and technology demonstration projects, increase the beneficial use of dredged material and determine the need for modification of selected existing projects to support coastal restoration objectives. The LCA near-term plan includes fifteen elements authorized for implementation contingent upon meeting certain reporting requirements. Specifically, Section 7006 (e)(1)(D) instructs the Secretary of the Army to carry out the following project referred to in the restoration plan: (D) Modification of Davis Pond Diversion at a total cost of $64,200,000. The Congressional language further directs completion of a feasibility report of the Chief of Engineers, and subsequent submission to the Committee on Transportation and Infrastructure of the House of Representatives and the Committee on Environment and Public Works of the Senate.

2. Proposed Action. The Modification of Davis Pond Diversion Project would increase wetland restoration outputs in the Barataria Basin. The objective of this modification project is to: Maximize the use of the existing diversion structure for the purpose of decreasing wetland loss and increasing habitat quality.

3. Alternatives. Restoration measures being considered include changing the structure's operational plan to flow at maximum capacity; to flow at 5,000 cubic feet per second (cfs) on average; and to include pulsing (fully opening the structure's gates during a rise in the Mississippi River to maximize suspended sediment delivery). Other possible alternatives include physical land modifications to divert water to areas that currently do not receive diversion flows; marsh restoration; and measures to increase native vegetation and submerged aquatic vegetation. Alternative plans will be developed through various combinations of restoration measures that best meet the study goals and objectives and is determined to be cost-effective, environmentally acceptable and technically feasible.

4. Public Involvement. Public involvement, an essential part of the supplemental EIS process, is integral to assessing the environmental consequences of the proposed action and improving the quality of the environmental decision making. The public includes affected and interested Federal, state, and local agencies, Indian tribes, concerned citizens, stakeholders, and other interested parties. Public participation in the supplemental EIS process will be strongly encouraged, both formally and informally, to enhance the probability of a more technically accurate, economically feasible, and socially and politically acceptable supplemental EIS. Public involvement will include but is not limited to: Information dissemination; identification of problems, needs and opportunities; idea generation; public education; problem solving; providing feedback on proposals; evaluation of alternatives; conflict resolution by consensus; public and scoping notices and meetings; public, stakeholder and advisory groups consultation and meetings; and making the supplemental EIS and supporting information readily available in conveniently located places, such as libraries and on the world wide web.

5. Scoping. Scoping, an early and open process for identifying the scope of significant issues related to the proposed action to be addressed in the supplemental EIS, will be used to: (a) Identify the affected public and agency concerns; (b) facilitate an efficient supplemental EIS preparation process; (c) define the issues and alternatives that will be examined in detail in the supplemental EIS; and (d) save time in the overall process by helping to ensure that the draft supplemental EIS adequately addresses relevant issues. The public scoping meeting is scheduled for October 6, 2009 at 6:00 p.m. at Cytec's Tom Call Pavilion, 10800 River Road, Waggaman, Louisiana. A Scoping Meeting Notice will also be mailed to all interested parties in September 2009. Additional meetings could be held, depending upon public interest and if it is determined that further public coordination is warranted.

6. Coordination. The USACE and the U.S. Fish and Wildlife Service (USFWS) have formally committed to work together to conserve, protect, and restore fish and wildlife resources while ensuring environmental sustainability of our Nation's water resources under the January 22, 2003, Partnership Agreement for Water Resources and Fish and Wildlife. The USFWS will provide a Fish and Wildlife Coordination Act Report. Coordination will be maintained with the USFWS and the National Marine Fisheries Service (NMFS) regarding threatened and endangered species under their respective jurisdictional responsibilities. Coordination will be maintained with the NMFS regarding essential fish habitat. Coordination will be maintained with the Natural Resources Conservation Service regarding prime and unique farmlands. The U.S. Department of Agriculture will be consulted regarding the “Swampbuster” provisions of the Food Security Act. Coordination will be maintained with the U.S. Environmental Protection Agency concerning compliance with Executive Order 12898, “Federal Action to Address Environmental Justice in Minority Populations and Low-Income Populations.” Coordination will be maintained with the Advisory Counsel on Historic Preservation and the State Historic Preservation Officer. The Louisiana Department of Natural Resources will be consulted regarding consistency with the Coastal Zone Management Act. The Louisiana Department of Wildlife and Fisheries will be consulted concerning potential impacts to Natural and Scenic Streams.

7. Availability of Draft Supplemental EIS. The earliest that the draft supplemental EIS will be available for public review would be in spring of 2011. The draft supplemental EIS or a notice of availability will be distributed to affected Federal, state, and local agencies, Indian tribes, and other interested parties.

Dated: August 27, 2009.
Alvin B. Lee,
Colonel, US Army, District Commander.

[FR Doc. E9-21372 Filed 9-3-09; 8:45 am]

BILLING CODE 3720-58-P